DEPARTMENT OF AGRICULTURE

Forest Service

Monitor-Hot Creek Rangeland Project

AGENCY: Forest Service, USDA.

ACTION: Notice of intent to prepare an environmental impact statement.

SUMMARY: The Austin/Tonopah Ranger Districts, Humboldt-Toiyabe National Forest will prepare an environmental impact statement (EIS) on a proposal to authorize continued livestock grazing within the Monitor-Hot Creek Rangeland Project area. The analysis will determine if a change in management direction for livestock grazing is needed to move existing resource conditions within the Monitor-Hot Creek Rangeland Project area towards desired conditions. The project area comprises approximately 952,234 acres and is located on the Monitor and Hot Creek Mountain Ranges in Eureka, Nye and Lander Counties, Nevada.

DATES: Comments concerning the scope of the analysis must be received by March 25, 2010. The draft environmental impact statement is expected November, 2010 and the final environnental impact statement is expected April, 2011.

ADDRESSES: Send written comments to District Ranger, Austin/Tonopah Ranger Districts, P.O. Box 130, Austin, NV 89310. Comments may also be sent via e-mail to comments-intermtn-humboldt-toiyabe-austin-tonopah@fs.fed.us, or via facsimile to (775) 964-1451.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: For further information, mail correspondence to or contact Vernon Keller, Project Coordinator, at 1200 Franklin Way, Sparks, Nevada 89431. The telephone number is 775-355-5356. E-mail address is vkeller@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the proposed Federal action is to provide livestock grazing opportunities to perinittees in a way that sustains the health of the land and protects essential ecosystem functions and values.

Proposed Action

The Austin/Tonopah Ranger Districts propose to authorize continued domestic livestock grazing on approximately 816,433 acres within the Monitor-Hot Creek Rangeland Project area under a specific management regimen designed to sustain and improve the overall ecological condition of the project area. Under this proposal, we would incorporate updated direction in new grazing permits and allotment management plans to guide grazing management within the project area during the coming decade, or until amendments are warranted, based on changed condition or monitoring.

The Kelly Creek/North Monitor, White Rock, South Monitor, Table Mountain and Monitor Valley East allotments are currently vacant. Livestock grazing would be authorized in these allotments and they would be used to reduce conflicts on allotments that are currently grazed or as forage reserve allotments. These allotments comprise approximately 259,232 acres.

Monitor Winter, Horse Heaven, North Monitor Winter, Hicks Station, Wagon Johnnie, Little Fish Lake, Monitor Complex, Saulsbury and Stone Cabin allotments have active term grazing permits and would continue to have authorized grazing. These allotments comprise approximately 557,201 acres.

Morey, Hot Creek and McKinney allotments are currently vacant and would be closed. These allotments comprise approximately 135,801 acres.

Possible Alternatives

In addition to the proposed action, we have tentatively identified two additional alternatives that will be analyzed in the EIS.

(1) Current Management Alternative: This alternative would be a continuation of the current grazing management.

(2) No Livestock Grazing (No Action) Alternative: This alternative would eliminate grazing on all allotments in the project area. All livestock would be removed from the project area and existing permits would be cancelled.

Responsible Official

Steven Williams, District Ranger, Austin/Tonopah Ranger Districts, Humboldt-Toiyabe National Forest, P.O. Box 130, Austin, NV 89310.

Nature of Decision to be Made

Based on the environmental analysis on the EIS, the Austin/Tonopah District Ranger will decide whether or not to authorize grazing on the allotments within the Monitor-Hot Creek Project area in accordance with the standards in the proposed action or as modified by additional mitigation measures and monitoring requirements.

Preliminary Issues

The following are some potential issues identified through internal Forest Service scoping based on our experience with similar projects. The list is not considered all inclusive, but should be viewed as a starting point. We are asking you to help us further refine the issues and identify other issues or concerns relevant to the proposed project.

• Continued livestock grazing has to potential to affect soil quality within the project area.

• Continued livestock grazing has the potential to adversely affect water quality within the project area.

• Continued livestock grazing has the potential to affect fisheries habitat within the project area.

• Continued livestock grazing has the potential to affect vegetation, which may result in a decline in the long-term productivity of the land base.

• Continued livestock grazing has the potential to affect wildlife habitat, particularly for elk and sage grouse, within the project area.

• Continued livestock grazing has the potential to affect heritage resources within the project area.

Scoping Process

This notice of intent initiates the scoping process, which guide the development of the environmental impact statement. The Forest Service will use a mailing of information to interested parties. Public involvement will be ongoing throughout the analysis process and at certain times public input will be specifically requested. There are currently no scoping meetings planned.

It is important that reviewers provide their comments at such times and in such manner that they are useful to the agency's preparation of the environmental impact statement. Therefore, comments should be provided prior to the close of the comment period and should clearly articulate the reviewer's concerns and contentions.

Authority: 40 CFR 1501.7 and 1508.22; Forest Service Handbook 1909.15, Section 21.

Dated: February 5, 2010.
Steven Williams,
District Ranger.

[FR Doc. 2010-3327 Filed 2-22-10; 8:45 am]

BILLING CODE 3410-11-M